DEPARTMENT OF HOUSING AND URBAN DEVELOPMENT

[Docket Number: FR-7062-N-02]

Privacy Act of 1974; Matching Program

AGENCY: Office of Public and Indian Housing, Real Estate Assessment Center.

ACTION: Notice of a new matching program.

SUMMARY: Pursuant to the Computer Matching and Privacy Protection Act of 1988, as amended, the Department of Housing and Urban Development (HUD) is providing notice of its intent to re-establish a computer matching agreement (CMA) with the Social Security Administration (SSA) for a recurring matching program with HUD's Office of Public and Indian Housing (PIH) and Office of Housing, involving comparisons of Social Security numbers (SSN) and benefit information provided by participants in any authorized HUD rental housing assistance program. HUD will obtain SSA data and make the results available to: (1) Program administrators such as public housing agencies (PHAs) and private owners and management agents (O/As) (collectively referred to as POAs) to enable them to verify the accuracy of income reported by the tenants (participants) of HUD rental assistance programs, and (2) contract administrators (CAs) overseeing and monitoring O/A operations as well as independent public auditors (IPAs) that audit both PHAs and O/As. The most recent renewal of the current matching agreement expired on November 7, 2021.

DATES: The CMA will become applicable 30 days after the publication of this notice, unless comments have been received from interested members of the public requiring modification and republication of the notice. The matching program will continue for 18 months after the applicable date and may be extended for an additional 12 months, if the respective agency Data Integrity Boards (DIBs) determine that the conditions specified in 5 U.S.C. 552a(o)(2)(D) have been met.

ADDRESSES: Interested persons are invited to submit comments regarding this notice to:

Federal e-Rulemaking Portal: http://www.regulations.gov. Follow the instructions provided on that site to submit comments electronically.

Fax: 202-619-8365.

Email: www.privacy@hud.gov.

Instructions: All submissions received must include the agency name and docket number for this rulemaking. All comments received will be posted without change to http://www.regulations.gov including any personal information provided.

Docket: For access to the docket to read background documents or comments received go to http://www.regulations.gov.

FOR FURTHER INFORMATION CONTACT: Contact the Recipient Agency, Nancy Corsiglia, Senior Agency Official for Privacy, Department of Housing and Urban Development, 451 Seventh Street SW, Room 6204, Washington, DC 20410, telephone number (202) 402-4025. [This is not a toll-free number.] A telecommunication device for hearing- and speech-impaired individuals (TTY) is available at (800) 877-8339 (Federal Relay Service).

SUPPLEMENTARY INFORMATION: This notice supersedes a similar notice published in the Federal Register on March 26, 2019, at 84 FR 11321. Administrators of HUD rental assistance programs rely upon the accuracy of tenant-reported income to determine participant eligibility for and level of rental assistance. The computer matching program may provide indicators of potential tenant unreported or under-reported income, which will require additional verification to identify inappropriate or inaccurate rental assistance and may provide indicators for potential administrative or legal actions. The matching program will be carried out to detect inappropriate or inaccurate rental assistance. Specifically, the computer matching program will match HUD's tenant data to SSA's death data, Social Security (SS) and Supplemental Security Income (SSI) benefits data.

Participating Agencies: Department of Housing and Urban Development and the Social Security Administration.

Authority for Conducting the Matching Program: 42 U.S.C. 3543 authorizes HUD to require rental assistance applicants and participants to disclose their SSNs. HUD requires, as a condition of eligibility, that individuals requesting, or continuing to receive, rental assistance disclose their SSNs (24 CFR 5.216). Section 1106 of the Social Security Act (Act) (42 U.S.C. 1306) and the regulations promulgated thereunder provide legal authority for SSA's disclosures in this agreement (20 CFR part 401). Section 205(r)(3) of the Act (42 U.S.C. 405(r)(3)) provides legal authority for SSA to disclose death data to Federal agencies to ensure proper payment of Federally funded benefits. Pursuant to section 7213 of the Intelligence Reform and Terrorism Prevention Act of 2004, Public Law (Pub. L.) No. 108-458, SSA includes death indicators in verification routines that SSA determines to be appropriate.

Purpose(s): HUD's primary objective of the computer matching program is to verify the income of participants in certain rental assistance programs to determine the appropriate level of rental assistance, and to detect, deter, and correct fraud, waste, and abuse in rental housing assistance programs. In meeting these objectives, HUD also is carrying out a responsibility under 42 U.S.C. 1437f(k) to ensure that income data provided to POAs by household members is complete and accurate. HUD's various rental housing assistance programs require that participants meet certain income and other criteria to be eligible for rental assistance. In addition, tenants generally are required to report and recertify the amounts and sources of their income at least annually. However, under the Quality Housing and Work Responsibility Act of 1998, PHAs operating Public Housing programs may offer tenants the option to pay a flat rent or an income-based rent. Those tenants who select a flat rent will be required to recertify income at least every three years. In addition, the changes to the Admissions and Occupancy final rule (March 29, 2000 (65 FR 16692)) specified that household composition must be recertified annually for tenants who select a flat rent or income-based rent. Additional uses/benefits of this computer matching program include: (1) Increasing the availability of rental assistance to individuals who meet the requirements of the rental assistance programs; (2) after removal of personal identifiers, conducting analyses of SSA death data and benefit information, and income reporting of program participants; and (3) measuring improper payments due to under-reporting of income and/or overpayment of subsidy on behalf of deceased program participants.

Categories of Individuals

Covered Programs

This notice of computer matching program applies to individuals receiving assistance from the following rental assistance programs:

a. Disaster Housing Assistance Program (DHAP) under the United States Housing Act of 1937

b. Public Housing under 24 CFR part 960

c. Section 8 Housing Choice Voucher (HCV) under 24 CFR part 982

d. Project-Based Vouchers Section 24 CFR parts 880, 881, 883, 884, 886, and 891

e. New Construction Multifamily Assisted Housing Reform and Affordability Act of 1997 (42 U.S.C. 1437f)

f. Substantial Rehabilitation Multifamily Assisted Housing Reform and Affordability Act of 1997 (42 U.S.C. 1437f)

g. Section 202/8 of the Housing Act of 1959 (12 U.S.C. 1701q)

h. Rural Housing Services Section 515/8 under section 515 of title V of the Housing Act of 1949 (42 U.S.C. 1485)

i. Loan Management Set-Aside Section 236 of the National Housing Act (12 U.S.C. 1715z-1)

j. Property Disposition Set-Aside of the Housing Act of 1959 (12 U.S.C. 1701)

k. Section 101 Rent Supplement of the Housing and Urban Development Act of 1965 (12 U.S.C. 1701s)

l. Section 202/162 Project Assistance Contract of the Housing Act of 1959 (24 CFR 891.655)

m. Section 202 Project Rental Assistance Contract (PRAC) of the Housing Act of 1959 (12 U.S.C. 1701q)

n. Section 811 PRAC of the Cranston-Gonzalez National Affordable Housing Act (42 U.S.C. 8013)

o. Section 236 of the National Housing Act (12 U.S.C. 1715z-1)

p. Section 236 Rental Assistance Program (RAP) of the National Housing Act (12 U.S.C. 1715z-1)

q. Section 221(d)(3) Below Market Interest Rate and 236 of the National Housing Act of 1959 (12 U.S.C. 171519(d)(3) and 1715z-1)

r. Section 8 Moderate Rehabilitation (24 CFR part 882)

s. Project-Based Voucher (24 CFR part 983)

Note: The Low-Income Housing Tax Credit and Rural Housing Services Section 515 (non-section 8) are not included under the rental housing assistance programs covered under this CMA.

Categories of Records: The following are the categories of record in this matching agreement that HUD will provide SSA for each individual for whom HUD requests information:

First name

Last name

SSN

Date of Birth (DOB)

SSA will provide HUD with the following information for each individual for whom HUD requests information:

The amount of monthly benefits for each recipient of Title II, Title XVI, and Title VIII benefits

SSN match/no match response

In the case of a “no match”, the reason for the no match response in the form of an error code

A death indicator, if applicable

System(s) of Records: SSA will conduct the matching of tenant SSNs and additional identifiers (surnames and DOBs) to tenant data that HUD supplies from its systems of records known as:

1. Tenant Rental Assistance Certification System (TRACS) HSNG.MF.HITS.02, a component of HUD's Tenant Housing Assistance and Contract Verification Data System, published on August 22, 2016 (81 FR 56684);

2. Inventory Management System, Public Housing Information System (IMS/PIC), HUD/PIH.01, published on March 25, 2019 (84 FR 11117); and

3. Enterprise Income Verification (EIV) System, HUD/PIH-5, published on September 1, 2009 (74 FR 45235).

Program administrators utilize the form HUD-50058 module within IMS/PIC system and the form HUD-50059 module within TRACS to provide HUD with the tenant data. SSA will match the tenant data in TRACS and IMS/PIC to its systems of records known as

1. SSA's Master Files of Social Security Number (SSN) Holders and SSN Applications (Enumeration System), 60-0058; last fully published December 29, 2010 (75 FR 82121) and amended on July 5, 2013 (78 FR 40542), February 13, 2014 (79 FR 8780), July 3, 2018 (83 FR 31250 and 83 FR 31251), and November 1, 2018 (83 FR 54969);

2. Supplemental Security Income Record and Special Veterans Benefits, 60-0103, last fully published on January 11, 2006 (71 FR 1830) and amended December 10, 2007 (72 FR 69723), July 3, 2018 (83 FR 31250 and 83 FR 31251) and November 1, 2018 (83 FR 64969); and

3. Master Beneficiary Record (MBR), 60-0090, last fully published on January 11, 2006 (71 FR 1826) and amended on December 10, 2007 (72 FR 69723), July 5, 2013 (78 FR 40542), July 3, 2018 (83 FR 31250 and 83 FR 31251), and November 1, 2018 (83 FR 54969).

Dated: January 11, 2022.
Nancy Corsiglia,
Senior Agency Official for Privacy.

[FR Doc. 2022-05438 Filed 3-14-22; 8:45 am]

BILLING CODE P